NUCLEAR REGULATORY COMMISSION

[Docket Nos. 50-289 and 50-320; NRC-2017-0146]

Exelon Generation Company, LLC; Three Mile Island Nuclear Station, Units 1 and 2

AGENCY: Nuclear Regulatory Commission.

ACTION: Environmental assessment and finding of no significant impact; issuance.

SUMMARY: The U.S. Nuclear Regulatory Commission (NRC) is considering issuance of an amendment to Renewed Facility Operating License No. DPR-50 held by Exelon Generation Company, LLC (Exelon, the licensee) for the operation of Three Mile Island Nuclear Station (TMI), Units 1 and 2, located in Dauphin County, Pennsylvania. The proposed amendment would allow for changes to TMI's Radiological Emergency Plan Annex staffing levels to align with Exelon's standard fleet Emergency Response Organization (ERO) framework. In accordance with the Possession-Only License No. DPR-73 Post-Defueling Monitored Storage Safety Analysis Report for TMI, Unit 2, the emergency plan for Unit 1 is considered to encompass Unit 2. Therefore, an amendment to the Unit 2 license is not required. The NRC is issuing an environmental assessment (EA) and finding of no significant impact (FONSI) associated with the proposed license amendment.

DATES: The EA referenced in this document is available on June 22, 2017.

ADDRESSES: Please refer to Docket ID NRC-2017-0146 when contacting the NRC about the availability of information regarding this document. You may obtain publicly-available information related to this document using any of the following methods:

• Federal Rulemaking Web site: Go to http://www.regulations.gov and search for Docket ID NRC-2017-0146. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Justin C. Poole, Office of Nuclear Reactor Regulation, U.S. Nuclear Regulatory Commission, Washington DC 20555-0001; telephone: 301-415-2048; email: Justin.Poole@nrc.gov.

SUPPLEMENTARY INFORMATION:

I. Introduction

The NRC is considering issuance of a license amendment pursuant to section 50.54 of title 10 of the Code of Federal Regulations (10 CFR), “Conditions of licenses,” paragraph (q), “Emergency plans,” to Renewed Facility Operating License No DPR-50 held by Exelon for the operation of TMI, Units 1 and 2, located in Dauphin County, Pennsylvania. In accordance with 10 CFR 51.21, the NRC performed the following EA that analyzes the environmental impacts of the proposed licensing action. Based on the results of this EA, and in accordance with 10 CFR 51.31(a), the NRC has determined not to prepare an environmental impact statement for the proposed licensing action, and is issuing a FONSI.

II. Environmental Assessment

Description of the Proposed Action

The proposed action would revise the Radiological Emergency Plan Annex for TMI in order to allow changes to staffing levels to align with Exelon's standard fleet ERO framework. The proposed changes would decrease the on-shift radiation protection technician staffing from three to two technicians. The proposed amendment would also make changes to the staffing of on-shift maintenance personnel. Specifically, the amendment would: (1) Revise the on-shift position of operations support center director (renamed repair team lead) to remove the requirement that the position be from the maintenance organization; (2) remove two dedicated maintenance technicians from the on-shift staffing total; and (3) remove two additional personnel from the repair and corrective actions major task and assign them to respond within 60 minutes, as well as one additional staff person to respond within 90 minutes.

The proposed action is in accordance with the licensee's application dated July 15, 2016 (ADAMS Package Accession No. ML16201A306), as supplemented by letter dated February 13, 2017 (ADAMS Accession No. ML17045A036).

Need for the Proposed Action

Nuclear power plant owners, government agencies, and state and local officials work together to create a system for emergency preparedness and response that will serve the public in the unlikely event of an emergency. An effective emergency preparedness program decreases the likelihood of an initiating event at a nuclear power reactor proceeding to a severe accident. Emergency preparedness cannot affect the probability of the initiating event, but a high level of emergency preparedness increases the probability of accident mitigation if the initiating event proceeds beyond the need for initial operator actions.

Each licensee is required to establish emergency plans to be implemented in the event of an accident. These emergency plans, in part, cover preparations for evacuation, sheltering, and other actions to protect individuals near plants in the event of an accident.

The NRC, as well as other Federal and state regulatory agencies, reviews emergency plans to ensure that the condition of emergency preparedness provides reasonable assurance that adequate protective measures can and will be taken in the event of a radiological emergency.

Separate from this environmental assessment, the NRC staff is performing a safety assessment of Exelon's proposed changes to the emergency plan for TMI. This safety review will be documented in a safety evaluation report. The safety evaluation report will determine whether, with the proposed changes to the emergency plan for TMI, there continues to be reasonable assurance that adequate protective measures can and will be taken in the event of a radiological emergency at TMI, in accordance with the standards of 10 CFR 50.47(b) and the requirements in appendix E to 10 CFR part 50.

The proposed action is needed to align TMI's Radiological Emergency Plan Annex staffing levels with Exelon's standard fleet ERO framework. This will improve consistency throughout the Exelon fleet regarding the application of operating experience and process improvements from other Exelon fleet sites and will provide flexibility in staffing ERO positions with qualified personnel from either the operations or maintenance organizations.

Environmental Impacts of the Proposed Action

The NRC staff has completed its evaluation of the environmental impacts of the proposed action.

The proposed action consists mainly of administrative changes related to the staffing levels and positions of the TMI emergency plan. These changes include (a) decreasing radiation protection technician staffing from three to two technicians, (b) renaming the on-shift “operations support center director” to “repair team lead” and removing the requirement that the position be filled by a “maintenance team lead,” (c) removing two dedicated maintenance technicians from the on-shift staffing total, (d) removing one Mechanical and one Electrical/Instrumentation and Control Maintenance Technician assigned concurrent duties, and (e) adding one Mechanical Maintenance Technician and one Electrical Maintenance Technician as 60-minute augmentation responders and one Maintenance Instrumentation and Control Technician as a 90-minute augmentation responder.

With regard to potential non-radiological environmental impacts, the proposed changes would have no direct impacts on land use or water resources, including terrestrial and aquatic biota, as they involve no new construction or modification of plant operational systems. There would be no changes to the quality or quantity of non-radiological effluents and no changes to the plant's National Pollutant Discharge Elimination System permit are needed. Changes in staffing levels could result in minor changes in vehicular traffic and associated air pollutant emissions, but no significant changes in ambient air quality would be expected from the proposed changes. In addition, there would be no noticeable effect on socioeconomic conditions in the region, no environment justice impacts, and no impacts to historic and cultural resources from the proposed changes. Therefore, there are no significant non-radiological environmental impacts associated with the proposed action.

With regard to potential radiological environmental impacts, if the NRC staff's safety review of the proposed changes to the TMI emergency plan determines that, with the proposed changes, the emergency plan continues to meet the standards of 10 CFR 50.47(b) and the requirements in appendix E to 10 CFR part 50, then the proposed action would not increase the probability or consequences of radiological accidents. Additionally, the NRC staff has concluded that the proposed changes would have no direct radiological environmental impacts. There would be no change to the types or amounts of radioactive effluents that may be released and, therefore, no change in occupational or public radiation exposure from the proposed changes. Moreover, no changes would be made to plant buildings or the site property from the proposed changes. Therefore, there are no significant radiological environmental impacts associated with the proposed action.

Environmental Impacts of the Alternatives to the Proposed Action

As an alternative to the proposed action, the NRC staff considered denial of the proposed action (i.e., the “no-action” alternative). Denial of the license amendment request would result in no change in current environmental impacts. Accordingly, the environmental impacts of the proposed action and the no-action alternative are similar.

Alternative Use of Resources

The proposed action does not involve the use of any different resources than those previously considered.

Agencies and Persons Consulted

No additional agencies or persons were consulted regarding the environmental impact of the proposed action.

III. Finding of No Significant Impact

Pursuant to 10 CFR 50.54(q), the licensee has requested a license amendment to Renewed Facility Operating License No. DPR-50 for the operation of TMI to allow staffing changes to the Radiological Emergency Plan Annex for TMI. The NRC is considering issuing the requested amendment. On the basis of the EA included in Section II of this document and incorporated by reference into this finding, the NRC concludes that the proposed action would not have a significant effect on the quality of the human environment. Accordingly, the NRC has determined not to prepare an environmental impact statement for the proposed action.

The related environmental document is NUREG-1437, “Generic Environmental Impact Statement for License Renewal of Nuclear Plants, Supplement 37, Regarding Three Mile Island Nuclear Station, Unit 1, Final Report,” and is available for public inspection at ADAMS Accession No. ML091751063. NUREG-1437, Supplement 37, provides the latest environmental review of current operations and a description of environmental conditions at TMI.

Dated at Rockville, Maryland, this 14th day of June 2017.
For the Nuclear Regulatory Commission.
Booma Venkataraman,
Project Manager, Plant Licensing Branch I, Division of Operating Reactor Licensing, Office of Nuclear Reactor Regulation.

[FR Doc. 2017-13053 Filed 6-21-17; 8:45 am]

BILLING CODE 7590-01-P